DEPARTMENT OF ENERGY

Federal Energy Regulatory Commission

Combined Notice of Filings #1

Take notice that the Commission received the following exempt wholesale generator filings:

Docket Numbers: EG22-47-000; EG01-301-000.

Applicants: Geysers Power Company, LLC, Geysers Power Company, LLC.

Description: Notice of Self-Recertification of Exempt Wholesale Generator Status.

Filed Date: 1/26/22.

Accession Number: 20220126-5146.

Comment Date: 5 p.m. ET 2/16/22.

Take notice that the Commission received the following electric rate filings:

Docket Numbers: ER20-1214-002.

Applicants: CHPE, LLC.

Description: CHPE LLC submits Supplemental Information to the December 9, 2021 Compliance Filing.

Filed Date: 1/25/22.

Accession Number: 20220125-5183.

Comment Date: 5 p.m. ET 2/4/22.

Docket Numbers: ER22-528-001.

Applicants: Tucson Electric Power Company.

Description: Tariff Amendment: Modification to Proposed Effective Dates to be effective 2/16/2022.

Filed Date: 1/26/22.

Accession Number: 20220126-5100.

Comment Date: 5 p.m. ET 2/16/22.

Docket Numbers: ER22-864-000.

Applicants: ConnectGen South Wrentham LLC.

Description: ConnectGen South Wrentham LLC submits a Request for Limited One-Time Prospective Waiver of Tariff Provisions with Expedited Consideration.

Filed Date: 1/20/22.

Accession Number: 20220120-5184.

Comment Date: 5 p.m. ET 2/10/22.

Docket Numbers: ER22-886-000.

Applicants: Sagebrush Line, LLC.

Description: Compliance filing: Notice of Succession to be effective 12/27/2021.

Filed Date: 1/25/22.

Accession Number: 20220125-5143.

Comment Date: 5 p.m. ET 2/15/22.

Docket Numbers: ER22-887-000.

Applicants: Duke Energy Florida, LLC.

Description: § 205(d) Rate Filing: DEF—FPL Certificate of Concurrence to be effective 1/25/2022.

Filed Date: 1/25/22.

Accession Number: 20220125-5148.

Comment Date: 5 p.m. ET 2/15/22.

Docket Numbers: ER22-888-000.

Applicants: Energy Center Dover LLC.

Description: Energy Center Dover LLC submits an Informational Filing with Request for Limited One-Time Prospective Waiver of Tariff Provisions and Expedited Consideration.

Filed Date: 1/21/22.

Accession Number: 20220121-5220.

Comment Date: 5 p.m. ET 2/11/22.

Docket Numbers: ER22-889-000.

Applicants: Dominion Energy South Carolina, Inc.

Description: Dominion Energy South Carolina, Inc., submits Notice of Cancellation of Network Integration Transmission Service Agreement and Network Operating Agreement the City of Orangeburg, South Carolina.

Filed Date: 1/24/22.

Accession Number: 20220124-5206.

Comment Date: 5 p.m. ET 2/14/22.

Docket Numbers: ER22-890-000.

Applicants: American Electric Power Service Corporation.

Description: American Electric Power Service Corporation, Submitted a Notice of Cancellation of Interconnection and Operating Agreements.

Filed Date: 1/25/22.

Accession Number: 20220125-5191.

Comment Date: 5 p.m. ET 2/15/22.

Docket Numbers: ER22-891-000.

Applicants: Pacific Gas and Electric Company.

Description: § 205(d) Rate Filing: Calpine Greenleaf Holdings Amendment (SA 174) to be effective 9/17/2021.

Filed Date: 1/26/22.

Accession Number: 20220126-5134.

Comment Date: 5 p.m. ET 2/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2022.
Kimberly D. Bose,
Secretary.

[FR Doc. 2022-01997 Filed 1-31-22; 8:45 am]

BILLING CODE 6717-01-P